DEPARTMENT OF COMMERCE

International Trade Administration

[A-570-891]

Hand Trucks and Certain Parts Thereof From the People's Republic of China: Final Results of Antidumping Duty Administrative Review and Rescission of Review in Part; 2012-2013

AGENCY: Enforcement and Compliance, International Trade Administration, Department of Commerce.

SUMMARY: On September 8, 2014, the Department of Commerce (the Department) published in the Federal Register the preliminary results of the administrative review of the antidumping duty order ¹ on hand trucks and certain parts thereof (hand trucks) from the People's Republic of China (PRC).² The period of review (POR) is December 1, 2012, through November 30, 2013. This administrative review covers three exporters of the subject merchandise: New-Tec Integration (Xiamen) Co., Ltd. (New-Tec); Yangjiang Shunhe Industrial Co. (Shunhe); and Full Merit Enterprise Limited (Full Merit).

¹ See Notice of Antidumping Duty Order: Hand Trucks and Certain Parts Thereof From the People's Republic of China, 69 FR 70122 (December 2, 2004).

² See Hand Trucks and Certain Parts Thereof From the People's Republic of China: Preliminary Results of Antidumping Duty Administrative Review; 2012-2013, 79 FR 53167 (September 8, 2014) (Preliminary Results).

Based upon our analysis of the comments and information received following the Preliminary Results, we made changes to the margin calculations for these final results. The final dumping margin is listed below in the “Final Results of the Review” section of this notice. We continue to find that Shunhe is part of the PRC-wide entity (see “No Shipments Claim,” infra). In addition, we are rescinding this review with respect to Full Merit at this time (see “Rescission of Review, in Part,” infra).

FOR FURTHER INFORMATION CONTACT: Scott Hoefke, or Robert James, AD/CVD Operations, Office VI, Enforcement and Compliance, International Trade Administration, U.S. Department of Commerce, 14th Street and Constitution Avenue NW., Washington, DC 20230; telephone: (202) 482-4947 or (202) 482-0649, respectively.

DATES: Effective Date: June 11, 2015.

SUPPLEMENTARY INFORMATION:

Background

On September 8, 2014, the Department published in the Federal Register the Preliminary Results of the 2012-2013 administrative review of the antidumping duty order on hand trucks from the PRC. In accordance with 19 CFR 351.309(c)(1)(ii), we invited parties to comment on our Preliminary Results. On October 8, 2014, Cosco Home and Office Products (Cosco), a U.S. importer, submitted a case brief. No other comments were submitted to the Department.

Scope of the Order

The merchandise subject to the order consists of hand trucks manufactured from any material, whether assembled or unassembled, complete or incomplete, suitable for any use, and certain parts thereof, namely the vertical frame, the handling area and the projecting edges or toe plate, and any combination thereof. They are typically imported under heading 8716.80.50.10 of the Harmonized Tariff Schedule of the United States (HTSUS), although they may also be imported under heading 8716.80.50.90 and 8716.90.50.60. Although the HTSUS subheadings are provided for convenience and customs purposes, the written product description remains dispositive. A full description of the scope of the order is contained in the Final Issues and Decision Memorandum dated concurrently with and hereby adopted by this notice.³

³ See Memorandum to Ronald K. Lorentzen, “Hand Trucks and Certain Parts Thereof from the People's Republic of China: Issues and Decision Memorandum for the Final Results of Antidumping Duty Administrative Review; 2012-2013” (Issues and Decision Memorandum), dated concurrently with and adopted by this notice, for a complete description of the Scope of the Order.

Analysis of Comments Received

All issues raised by parties in this administrative review are listed in the Appendix to this notice and addressed in the Issues and Decision Memorandum. Parties can find a complete discussion of all issues raised in this review and the corresponding recommendations in this public memorandum, which is electronically available via Enforcement and Compliance's Antidumping and Countervailing Duty Centralized Electronic Service System (ACCESS).⁴ ACCESS is available to registered users at http://access.trade.gov, and is available to all parties in the Central Records Unit, Room 7046, of the main Department of Commerce building. In addition, a complete version of the Issues and Decision Memorandum can be accessed directly on the Internet at http://enforcement.trade.gov/frn/. The signed and electronic versions of the Issues and Decision Memorandum are identical in content.

⁴ On November 2, 2014, Enforcement and Compliance changed the name of Enforcement and Compliance's AD and CVD Centralized Electronic Service System (IA ACCESS) to AD and CVD Centralized Electronic Service System (ACCESS). The Web site location was changed from http://iaaccess.trade.gov to http://access.trade.gov. The Final Rule changing the references to the regulations can be found at 79 FR 69046 (November 20, 2014).

No Shipments Claim

Shunhe submitted certifications of no shipments. Because Shunhe was, at the outset of this administrative review, and continues to be part of the PRC-wide entity in this administrative review, the Department did not make a determination of no shipments.⁵ Subsequent to the Preliminary Results, the Department did not receive any information that indicated anything to the contrary. The Department therefore finds for these final results that Shunhe continues to remain part of the PRC-wide entity.

⁵ See Preliminary Results and accompanying Preliminary Decision Memorandum at 3.

Rescission of Review, in Part

In the Preliminary Results, the Department noted that it would rescind the review with respect to Full Merit in the final results if the PRC-wide entity did not come under review in this administrative review. Subsequent to the Preliminary Results, the Department did not receive any comments or information which indicated that Full Merit or the PRC-wide entity should be reviewed. Therefore, pursuant to 19 CFR 351.213(d)(1), we are rescinding the administrative review with respect to this company.

Changes Since the Preliminary Results

Based on a review of the record and comments received from an interested party regarding our Preliminary Results, we made certain revisions to the margin calculations for New-Tec. Specifically, the Department adjusted financial ratio calculations for surrogate values and adjusted the surrogate values for energy.⁶

⁶ See Issues and Decisions Memorandum; see also Memorandum to the File, “Analysis for the Final Results of Hand Trucks and Certain Parts Thereof from the People's Republic of China: New-Tec” (January 6, 2015).

Separate Rates Determination

In our Preliminary Results, we determined that New-Tec met the criteria for separate rate status. We have not received any information since the issuance of the Preliminary Results that provides a basis for reconsidering this preliminary finding. Therefore, the Department continues to find that New-Tec meets the criteria for a separate rate.

Final Results of the Review

The Department determines that the following final dumping margin exists for the period December 1, 2012, through November 30, 2013:

Exporter | Weighted- average margin (percent)
New-Tec Integration (Xiamen) Co., Ltd | 0.00

Disclosure

The Department will disclose to parties in this proceeding the calculations performed within five days after the date of publication of this notice in accordance with 19 CFR 351.224(b).

Assessment Rate

Pursuant to section 751(a)(2)(C) of the Tariff Act of 1930, as amended (the Act), and 19 CFR 351.212(b), the Department determines, and U.S. Customs and Border Protection (CBP) shall assess, antidumping duties on all appropriate entries of subject merchandise and deposits of estimated duties, where applicable, in accordance with the final results of this review. The Department intends to issue appropriate assessment instructions to CBP 15 days after the date of publication of the final results of this review. Because we have calculated a zero margin for New-Tec in the final results of this review, we will instruct CBP to liquidate the appropriate entries without regard to antidumping duties.

On October 24, 2011, the Department announced a refinement to its assessment practice in NME cases.⁷ Pursuant to this refinement in practice, for entries that were not reported in the U.S. sales databases submitted by companies individually examined during this review, the Department will instruct CBP to liquidate such entries at the NME-wide rate. In addition, if the Department determines that an exporter under review had no shipments of the subject merchandise, any suspended entries that entered under that exporter's case number (i.e., at that exporter's rate) will be liquidated at the PRC-wide rate.⁸

⁷ For a full discussion of this practice, see Non-Market Economy Antidumping Proceedings: Assessment of Antidumping Duties, 76 FR 65694 (October 24, 2011).

⁸ Id.

Cash Deposit Requirements

The following cash deposit requirements will be effective upon publication of the final results of this administrative review for all shipments of subject merchandise entered, or withdrawn from warehouse, for consumption on or after the publication date, as provided for by section 751(a)(2)(C) of the Act: (1) For subject merchandise exported by New-Tec, which has a separate rate, the cash deposit rate will be that established in the final results of this review, except, if the rate is zero or de minimis, then zero cash deposit will be required; (2) for any previously reviewed or investigated PRC and non-PRC exporter not listed above that received a separate rate in a previous segment of this proceeding, the cash deposit rate will continue to be the existing exporter-specific rate; (3) for all PRC exporters that have not been found to be entitled to a separate rate, the cash deposit rate will be that for the PRC-wide entity (i.e., 383.60 percent); and (4) for all non-PRC exporters of subject merchandise which have not received their own rate, the cash deposit rate will be the rate applicable to the PRC exporter that supplied the non-PRC exporter. These cash deposit requirements, when imposed, shall remain in effect until further notice.

Notification to Importers

This notice serves as a final reminder to importers of their responsibility under 19 CFR 351.402(f) to file a certificate regarding the reimbursement of antidumping duties prior to liquidation of the relevant entries during the POR. Failure to comply with this requirement could result in the Department's presumption that reimbursement of antidumping duties occurred and the subsequent assessment of double antidumping duties.

Administrative Protective Order

This notice also serves as a reminder to parties subject to administrative protective order (APO) of their responsibility concerning the return or destruction of proprietary information disclosed under APO in accordance with 19 CFR 351.305(a)(3), which continues to govern business proprietary information in this segment of the proceeding. Timely written notification of the return/destruction of APO materials, or conversion to judicial protective order, is hereby requested. Failure to comply with the regulations and terms of an APO is a violation which is subject to sanction.

We are issuing and publishing this final results of administrative review and notice in accordance with sections 751(a)(1) and 777(i)(1) of the Act and 19 CFR 351.213(h).

Dated: June 4, 2015.
Ronald K. Lorentzen,
Deputy Assistant Secretary for Enforcement and Compliance.

Appendix

List of Comments Discussed in the Accompanying Final Issues and Decision Memorandum

Summary

Background

Scope of the Order

No Shipments Claim

Rescission in Part

Discussion of the Issues

Comment 1: Whether to use TS Steel's Financial Statement

Comment 2: Whether to use Thai Trolley's Financial Statement

Comment 3: Use of Jenbunjerd's Financial Statement

Comment 4: Surrogate Values for Energy

Recommendation

[FR Doc. 2015-14365 Filed 6-10-15; 8:45 am]

BILLING CODE 3510-DS-P